Proclamation 7672 of April 30, 2003

National Day of Prayer, 2003

By the President of the United States of America

A Proclamation

We are a Nation whose people turn to prayer in times of our most heartfelt sorrow and our moments of greatest joy. On this National Day of Prayer, first called for more than 225 years ago by the Continental Congress, we come together to thank God for our Nation's many blessings, to acknowledge our need for His wisdom and grace, and to ask Him to continue to watch over our country in the days ahead.

America welcomes individuals of all backgrounds and religions, and our citizens hold diverse beliefs. In prayer, we share the universal desire to speak and listen to our Maker and to seek the plans He has for our lives. We recognize the ways that He has blessed our land abundantly, and we offer thanks for these gifts and for the generosity of our Nation in helping those in need. We are grateful for our freedom, for God's love, mercy, and forgiveness, and for a hope that will never be shaken.

Today, our Nation is strong and prosperous. Our Armed Forces have achieved great success on the battlefield, but challenges still lie ahead. Prayer will not make our path easy, yet prayer can give us strength and hope for the journey.

As we continue to fight against terror, we ask the Almighty to protect all those who battle for freedom throughout the world and our brave men and women in uniform, and we ask Him to shield innocents from harm. We recognize the sacrifice of our military families and ask God to grant them peace and strength. We will not forget the men and women who have fallen in service to America and to the cause of freedom. We pray that their loved ones will receive God's comfort and grace.

In this hour of history's calling, Americans are bowing humbly in churches, synagogues, temples, mosques, and in their own homes, in the presence of the Almighty. This day, I ask our Nation to join me in praying for the strength to meet the challenges before us, for the wisdom to know and do what is right, for continued determination to work towards making our society a more compassionate and decent place, and for peace in the affairs of men.

The Congress, by Public Law 100-307, as amended, has called on our citizens to reaffirm the role of prayer in our society and to honor the religious diversity our freedom permits by recognizing annually a “National Day of Prayer.”

NOW, THEREFORE, I, GEORGE W. BUSH, President of the United States of America, do hereby proclaim May 1, 2003, as a National Day of Prayer. I ask the citizens of our Nation to pray, each after his or her own faith, in thanksgiving for the freedoms and blessings we have received and for God's continued guidance and protection. I also urge all Americans to join in observing this day with appropriate programs, ceremonies, and activities.

IN WITNESS WHEREOF, I have hereunto set my hand this thirtieth day of April, in the year of our Lord two thousand three, and of the Independence of the United States of America the two hundred and twenty-seventh.

B

[FR Doc. 03-11193

Filed 5-2-03; 8:45 am]

Billing code 3195-01-P